DEPARTMENT OF THE INTERIOR

Bureau of Land Management

[AZ 020-01-1610-D0-081A-002A]

Agua Fria National Monument

AGENCY: Bureau of Land Management, Phoenix Field Office, Phoenix, AZ

ACTION: Notice of Intent to prepare (1) a Resource Management Plan (RMP) for Agua Fria National Monument, designated on January 11, 2000, and (2) an RMP for lands collectively known as the Bradshaw Foothills. These two actions will require a single Environmental Impact Statement (EIS).

Location: The planning area encompasses the public lands managed by the BLM north of Phoenix, Arizona, including the Agua Fria National Monument and the Bradshaw Foothills. The Bradshaw Foothills include the Black Canyon Corridor and the areas around Lake Pleasant and Wickenburg. For more information, a map can be viewed in the Public Room of the Bureau of Land Management (BLM) Phoenix Field Office.

SUMMARY: The BLM provides notice that it intends to prepare two RMPs with one associated EIS for lands north of Phoenix, Arizona, managed by the Phoenix Field Office. One RMP will be developed for the lands referred to as the Bradshaw Foothills, and a separate RMP will be developed for the Agua Fria National Monument. This area is currently managed under the Lower Gila North Management Framework Plan (MFP) (1983) and the Phoenix RMP (1989). These plans will fulfill the needs and obligations set forth by the National Environmental Policy Act (NEPA), the Federal Land Policy and Management Act (FLPMA), the Agua Fria National Monument proclamation, and BLM regulations and policies. The BLM will work closely with interested parties to identify management decisions best suited to the needs of the public. This collaborative process will take into account local, regional, and national needs and concerns. This notice begins the public scoping process to examine proposed issues and planning criteria.

DATES: The scoping comment period will commence with the publication of this notice. Formal scoping will last a minimum of 60 days. Comments on issues and criteria should be received on or before the end of the scoping period at the address listed below. To ensure diverse local community participation and input, meeting locations will include the following communities: Wickenburg, Phoenix, Peoria, Prescott, Cave Creek, New River, Black Canyon City, Cordes Junction and Castle Hot Springs. At least 15 days public notice will be given for activities where the public is invited to attend. Meetings and comment deadlines will be announced through the local news media, newsletters, and the BLM web site (www.az.blm.gov). Public meetings will be held throughout the plan scoping and preparation period. Early participation by all those interested is encouraged and will help determine future management of the public lands.

ADDRESSES: To send written comments, obtain further information and/or to have your name added to our mailing list, contact: Chris Horyza, Bureau of Land Management, Phoenix Field Office, 21605 North 7th Avenue, Phoenix, AZ 85027; Telephone (623) 580-5628; Fax (623) 580-5580; e-mail: chris_horyza@blm.gov. Documents pertinent to this proposal may be examined at the Phoenix Field Office at the address listed above. Comments, including names and street addresses of respondents, will be available for public review at the Phoenix Field Office during regular business hours, 7:45 a.m. to 4:15 p.m., Monday through Friday, except holidays, and may be published as part of the EIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

SUPPLEMENTARY INFORMATION: The extraordinary population growth in Arizona, and especially the Greater Phoenix Metropolitan Area, as well as the creation of Agua Fria National Monument, requires reconsideration of previous land use plan decisions. This planning activity will develop management plans for Agua Fria National Monument and the Bradshaw Foothills through one planning effort. These actions require a single EIS with two records of decision.

The BLM will develop these plans using a community-based collaborative approach. The BLM will work with local communities to develop creative ways to resolve community issues and BLM management issues and establish a sense of ownership for BLM activities. BLM will work cooperatively with Federal agencies and State, tribal, and local governments in developing the plans. The planning area is within the planning jurisdiction of the Arizona State Land Department, Yavapai County, Maricopa County, Peoria, and Phoenix. Other agencies involved in the planning process may include Arizona Department of Transportation, Arizona Game and Fish Department, Arizona Public Service, and Yavapai and Maricopa County Departments of Transportation and Parks and Recreation. In addition, Tonto and Prescott National Forests adjoin the planning area and contain similar cultural, historic, recreational, and natural resources that should be managed in concert with the BLM-managed lands. The collaborative planning approach will encourage long-term support for BLM land use plan decisions and continued community involvement in BLM projects.

Preliminary issues and management concerns have been raised by BLM employees, other agencies, and through contacts with individuals and user groups. BLM will address the following major issues in the plans: (1) Meeting public needs and achieving a healthy, thriving environment in the face of rapidly increasing urban population; (2) identifying actions necessary to provide for visitor use and safety in the Agua Fria National Monument; and (3) identifying actions necessary to protect the monument's natural and cultural resources consistent with the proclamation. These are the issues that have been raised to date.

After gathering public comments on what issues the plan should address, BLM will place the suggested issues into one of four categories:

1. Issues to be resolved in the plan.

2. Issues to be resolved through policy or administrative action.

3. Issues to be resolved independent of this planning effort.

4. Issues beyond the scope of this plan.

BLM will address category one issues in the land use plan process and give a rationale in the plan for each issue placed in category two or four. Issues falling under category three will be passed to, and addressed by, the appropriate management agency or entity.

In addition to the preceding major issues, management questions and concerns to be addressed in the plans include, but are not limited to, the following: ecosystem health, riparian condition, threatened and endangered species habitat, wildlife habitat, reintroduction of native species, cultural resource protection and interpretation, recreation and visitor use, access and transportation, rangeland management, and minerals management. The following disciplines will be represented on the BLM planning team: wilderness, recreation, wildlife, rangeland management, botany, fire ecology, geology, realty, cultural resources, soils, hydrology, and geographic information systems (GIS). Where necessary, outside expertise may be used.

Background Information: Agua Fria National Monument was created on January 11, 2000, with the signing by the President of Proclamation 7263. The Monument contains one of the most significant systems of late prehistoric sites in the American Southwest. At least 450 prehistoric sites are known to exist within the monument. In addition to its rich record of human history, the monument contains other objects of scientific interest, including a diversity of vegetation communities, a wide array of sensitive wildlife species, and native fish populations.

The purpose of the monument designation is to protect these sensitive natural and cultural resources. The proclamation designated more than 71,000 acres to be managed by the BLM for this purpose. Establishment of the national monument necessitates development of a land use plan.

The area in and around Phoenix, Arizona, has experienced significant population growth in recent years. Since 1990, Maricopa County's population has increased nearly 35 percent. During this same time period, the City of Peoria has annexed more than 59,000 acres, including more than 16,000 acres of BLM land, and the City of Phoenix has added more than 19,000 acres, including nearly 700 acres of BLM land. These are only two of the growing cities and towns expanding their borders toward and into the Bradshaw Foothills Planning Area. The increased pressure on public lands for recreation, rights-of-way, mineral materials, and other purposes resulting from population increases requires BLM to readdress its land use plan decisions.

Elaine Marquis-Brong,
Director, National Landscape Conservation System, Bureau of Land Management.

[FR Doc. 02-9595 Filed 4-23-02; 8:45 am]

BILLING CODE 4310-32-P